DEPARTMENT OF TRANSPORTATION

Saint Lawrence Seaway Development Corporation

33 CFR Part 402

RIN 2135-AA32

Tariff of Tolls

AGENCY: Saint Lawrence Seaway Development Corporation, DOT.

ACTION: Final rule.

SUMMARY: The Saint Lawrence Seaway Development Corporation (SLSDC) and the St. Lawrence Seaway Management Corporation (SLSMC) of Canada under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges currently being levied by the SLSMC in Canada. The changes affect the tolls for commercial vessels and are applicable only in Canada. For consistency, because these are under international agreement joint regulations, and to avoid confusion among users of the Seaway, the SLSDC finds that there is good cause to make the U.S. version of the amendments effective upon publication. (See Supplementary Information.)

DATES: This rule is effective on March 29, 2013.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Tariff of Tolls (Schedule of Fees and Charges in Canada) in their respective jurisdictions. The Tariff sets forth the level of tolls assessed on all commodities and vessels transiting the facilities operated by the SLSDC and the SLSMC. The SLSDC is revising 33 CFR 402.10, “Schedule of tolls”, to reflect the fees and charges levied by the SLSMC in Canada. The changes affect the tolls for commercial vessels and are applicable only in Canada. The collection of tolls by the SLSDC on commercial vessels transiting the U.S. locks is waived by law (33 U.S.C. 988a(a)). Accordingly, no notice or comment is necessary on these amendments.

Regulatory Notices

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-19478) or you may visit www.regulations.gov.

Regulatory Evaluation

This regulation involves a foreign affairs function of the United States and therefore Executive Order 12866 does not apply and evaluation under the Department of Transportation's Regulatory Policies and Procedures is not required.

Regulatory Flexibility Act Determination

I certify this regulation will not have a significant economic impact on a substantial number of small entities. The St. Lawrence Seaway Tariff of Tolls primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 402

Vessels, Waterways.

Accordingly, the Saint Lawrence Seaway Development Corporation is amending 33 CFR part 402, Tariff of Tolls, as follows:

PART 402—TARIFF OF TOLLS

1. The authority citation for Part 402 continues to read as follows:

Authority: 33 U.S.C. 983(a), 984(a)(4) and 988, as amended; 49 CFR 1.52.

2. In § 402.3, the definition of Containerized cargo is revised to read as follows:

§ 402.3 Interpretation.

* * * * *

Containerized cargo means cargo shipped in a container. Containers are used to transport freight in multiple modes; ship, rail, and truck. There are many configurations: Dry, insulated or thermal, refrigerated or reefer, flat racks and platforms, open top and tank. Usual dimensions: Width 8 feet, height 8 foot 6 inches or 9 foot 6 inches, lengths 20 foot or 40 foot. Less common lengths include, for example, 24, 28, 44, 45, 46, 48, 53, and 56 feet.

* * * * *

3. In § 402.5 paragraph (b) is revised to read as follows:

§ 402.5 New business incentive program.

* * * * *

(b) Containerized cargo, whatever the origin or destination, moved by a vessel in the Seaway at any time in the current navigation season qualifies as New Business.

* * * * *

4. Section 402.10 is revised to read as follows:

§ 402.10 Schedule of tolls.

Item | Column 1: Description of Charges | Column 2: Rate ($) Montreal to or from Lake Ontario (5 locks) | Column 3: Rate ($) Welland Canal—Lake Ontario to or from Lake Erie (8 locks)
1. | Subject to item 3, for complete transit of the Seaway, a composite toll, comprising: |  |
| (1) a charge per gross registered ton of the ship, applicable whether the ship is wholly or partially laden, or is in ballast, and the gross registered tonnage being calculated according to prescribed rules for measurement or under the International Convention on Tonnage Measurement of Ships, 1969, as amended from time to time ¹ | 0.0995 | 0.1592
| (2) a charge per metric ton of cargo as certified on the ship's manifest or other document, as follows: |  |
| (a) bulk cargo | 1.0312 | 0.7039
| (b) general cargo | 2.4848 | 1.1264
| (c) steel slab | 2.2488 | 0.8064
| (d) containerized cargo | 1.0312 | 0.7039
| (e) government aid cargo | n/a | n/a
| (f) grain | 0.6336 | 0.7039
| (g) coal | 0.6336 | 0.7039
| (3) a charge per passenger per lock | 1.5450 | 1.5450
| (4) a lockage charge per Gross Registered Ton of the vessel, as defined in tem 1(1), applicable whether the ship is wholly or partially laden, or is in ballast, for transit of the Welland Canal in either direction by cargo ships, | n/a | 0.2652
| Up to a maximum charge per vessel | n/a | 3,708.00
2. | Subject to item 3, for partial transit of the Seaway | 20 per cent per lock of the applicable charge under items 1(1), 1(2) and 1(4) plus the applicable charge under items 1(3) | 13 per cent per lock of the applicable charge under items 1(1), 1(2) and 1(4) plus the applicable charge under items 1(3)
3. | Minimum charge per vessel per lock transited for full or partial transit of the Seaway | 25.75 | 25.75
4. | A charge per pleasure craft per lock transited for full or partial transit of the Seaway, including applicable federal taxes ² | 30.00 ³ | 30.00
6. | Under the New Business Initiative Program, for cargo accepted as New Business, a percentage rebate on the applicable cargo charges for the approved period | 20% | 20%
7. | Under the Volume Rebate Incentive program, a retroactive percentage rebate on cargo tolls on the incremental volume calculated based on the pre-approved maximum volume | 10% | 10%

Issued at Washington, DC, on March 25, 2013. Saint Lawrence Seaway Development Corporation.
¹ Or under the US GRT for vessels prescribed prior to 2002.
² The applicable charge at the Saint Lawrence Seaway Development Corporation's locks (Eisenhower, Snell) for pleasure craft is $30 U.S. or $30 Canadian per lock. The collection of the U.S. portion of tolls for commercial vessels is waived by law (33 U.S.C. 988a(a)).
³ $5.00 discount per lock applicable on ticket purchased for Canadian locks via paypal.
Craig H. Middlebrook,
Acting Administrator.

[FR Doc. 2013-07350 Filed 3-28-13; 8:45 am]

BILLING CODE 4910-61-P